DEPARTMENT OF HEALTH AND HUMAN SERVICES

Health Resources and Services Administration

National Practitioner Data Bank: Change in User Fees

AGENCY: Health Resources and Services Administration, HHS.

ACTION: Notice.

SUMMARY: The Health Resources and Services Administration, Department of Health and Human Services, is announcing a decrease in user fees charged to individuals and entities authorized to request information from the National Practitioner Data Bank (NPDB). The new fee will be $2.00 for both continuous and one-time queries and $4.00 for self-queries. The reduction in NPDB user fees is intended to encourage new users while ensuring sufficient funds to the full cost of NPDB operations and retain appropriate cash reserves. The goals of the cash reserves are to mitigate risks, cover operational costs should revenue decrease, and cover the cost of reasonable enhancement and maintenance of the NPDB management system.

HRSA has the standard operating procedure of reviewing NPDB user fees every 2 years. The biennial review of NPDB user fees offers HRSA the opportunity to evaluate its reserves as well as revenue relative to costs. Further, the review provides essential information on whether the fee rates and authorized activities are aligned with actual program costs and activities, and can help promote greater understanding of the fee by NPDB users.

DATES: This change will be effective October 1, 2016.

FOR FURTHER INFORMATION CONTACT: Director, Division of Practitioner Data Bank, Bureau of Health Workforce, Health Resources and Services Administration, 5600 Fishers Lane, Room 11N37, Rockville, MD 20857; telephone number: (301) 443-2300.

SUPPLEMENTARY INFORMATION: The current fee structure ($3.00/continuous query enrollment, $3.00/one-time query, and $5.00/self-query) was announced in the Federal Register on April 18, 2014 (79 FR 75), and became effective on October 1, 2014. One-time queries, continuous query enrollments, and self-queries are submitted and query responses are received through the NPDB's secure Web site. Fees are paid via electronic funds transfer, debit card, or credit card.

The NPDB is authorized by the Health Care Quality Improvement Act of 1986 (the Act), Title IV of Public Law 99-660, as amended (42 U.S.C. 11101 et seq.). Further, two additional statutes expanded the scope of the NPDB—Section 1921 of the Social Security Act, as amended (42 U.S.C. 1396r-2) and Section 1128E of the Social Security Act, as amended (42 U.S.C. 1320a-7e). Information collected under the Section 1128E authority was consolidated within the NPDB pursuant to Section 6403 of the Affordable Care Act, Public Law 111-148; this consolidation became effective on May 6, 2013.

42 U.S.C. 11137(b)(4), 42 U.S.C. 1396r-2(e), and 42 U.S.C. 1320a-7e(d) authorize the establishment of fees for the costs of processing requests for disclosure of such information. Final regulations at 45 CFR part 60 set forth the criteria and procedures for information to be reported to and disclosed by the NPDB. In determining any changes in the amount of user fees, the Department uses the criteria set forth in section 60.19(b) of the regulations. Section 60.19(b) states:

“The amount of each fee will be determined based on the following criteria:

(1) Direct and indirect personnel costs, including salaries and fringe benefits such as medical insurance and retirement,

(2) Physical overhead, consulting, and other indirect costs (including materials and supplies, utilities, insurance, travel, and rent and depreciation on land, buildings, and equipment),

(3) Agency management and supervisory costs,

(4) Costs of enforcement, research, and establishment of regulations and guidance,

(5) Use of electronic data processing equipment to collect and maintain information—the actual cost of the service, including computer search time, runs and printouts, and

(6) Any other direct or indirect costs related to the provision of services.”

The Department will continue to review the user fees periodically as required by Office of Management and Budget Circular Number A-25 and will revise fees as necessary. Any future changes in user fees and their effective dates will be announced in the Federal Register.

Dated: July 14, 2016.
James Macrae,
Acting Administrator.

[FR Doc. 2016-17117 Filed 7-19-16; 8:45 am]

BILLING CODE 4165-15-P